DEPARTMENT OF COMMERCE

International Trade Administration

[C-489-830]

Steel Concrete Reinforcing Bar From the Republic of Turkey: Correction to Final Results of Countervailing Duty Administrative Review; 2017

AGENCY: Enforcement and Compliance, International Trade Administration, Department of Commerce.

SUMMARY: The Department of Commerce (Commerce) is correcting the final results of the administrative review of the countervailing duty order on steel concrete reinforcing bar (rebar) from the Republic of Turkey (Turkey). The period of review (POR) is March 1, 2017 through December 31, 2017.

DATES: March 20, 2020.

FOR FURTHER INFORMATION CONTACT: Nancy Decker, AD/CVD Operations, Office VII, Enforcement and Compliance, International Trade Administration, U.S. Department of Commerce, 1401 Constitution Avenue NW, Washington, DC 20230; telephone: (202) 482-0196.

SUPPLEMENTARY INFORMATION: On March 20, 2020, Commerce published the final results of the administrative review of the countervailing duty order on rebar from Turkey covering the period March 1, 2017 through December 31, 2017.¹ Commerce is correcting the Final Results as it pertains to the net countervailable subsidy rate for mandatory respondent, Habas Sinai ve Tibbi Gazlar Istihsal Endustrisi A.S. (Habas) and its cross-owned companies.

¹ See Steel Concrete Reinforcing Bar from the Republic of Turkey: Final Results of Countervailing Duty Administrative Review; 2017, 85 FR 16056 (March 20, 2020) (Final Results), and accompanying Issues and Decision Memorandum (IDM).

Correction to the Final Results

We are correcting the Final Results to reflect that the net countervailable subsidy rate is applicable to Habas and its cross-owned companies. The relevant text of the Final Results should have appeared as follows:

Final Results of Review

In accordance with 19 CFR 351.221(b)(5), we determine the following net countervailable subsidy rate for Habas, for the period March 1, 2017 through December 31, 2017:

Company | Subsidy rate Ad Valorem
Habas Sinai ve Tibbi Gazlar Istihsal Endustrisi A.S.² | 3.37 percent ³

Assessment and Cash Deposit Requirements

In accordance with 19 CFR 351.212(b)(2), Commerce intends to issue assessment instructions to U.S. Customs and Border Protection (CBP) 15 days after the date of publication of these final results of review, to liquidate shipments of subject merchandise produced and exported by Habas or its cross-owned companies and entered, or withdrawn from warehouse, for consumption on or after March 1, 2017 through December 31, 2017, at the ad valorem assessment rate listed above.

² Habas' cross-owned companies are: Habas Endustri Tesisleri A.S., Habas Petrol Urtmleri Sanayi ve Ticaret A.S., Pegagaz A.S., Cebitas Demir Celik Endustrisi A.S., and Osman Sonmez Ins. Taah. These cross-owned companies were identified in the Preliminary Results. See Steel Concrete Reinforcing Bar from the Republic of Turkey: Preliminary Results of Countervailing Duty Administrative Review; 2017, 84 FR 48583 (September 16, 2019), and accompanying Preliminary Decision Memorandum (collectively, Preliminary Results); see also Final Results IDM at Attribution of Subsidies.

³ This rate applies to merchandise produced and exported by Habas or its cross-owned companies (i.e., Habas Endustri Tesisleri A.S., Habas Petrol Urtmleri Sanayi ve Ticaret A.S., Pegagaz A.S., Cebitas Demir Celik Endustrisi A.S., and Osman Sonmez Ins. Taah). Merchandise produced by Habas or its cross-owned companies and exported by another company, or produced by another company and exported by Habas or its cross-owned companies continues to be covered by Steel Concrete Reinforcing Bar from the Republic of Turkey: Countervailing Duty Order, 79 FR 65926 (Nov. 6, 2014).

In accordance with section 751(a)(1) of the Act, Commerce also intends to instruct CBP to collect cash deposits of estimated countervailing duties in the amount shown above for Habas and its cross-owned companies. These cash deposit requirements, when imposed, shall remain in effect until further notice.

This correction to the Final Results is issued and published in accordance with section 751(a)(1) and 777(i)(1) of the Tariff Act of 1930, as amended.

Dated: April 7, 2020.
Jeffrey I. Kessler,
Assistant Secretary for Enforcement and Compliance.

[FR Doc. 2020-07840 Filed 4-13-20; 8:45 am]

BILLING CODE 3510-DS-P